DEPARTMENT OF LABOR

Mine Safety and Health Administration

[OMB Control No. 1219-0142]

Proposed Extension of Information Collection; Sealing of Abandoned Areas

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection for Sealing of Abandoned Areas.

DATES: All comments must be received on or before October 3, 2023.

ADDRESSES: Comments concerning the information collection requirements of this notice may be sent by any of the methods listed below. Please note that late, untimely filed comments will not be considered.

• Federal E-Rulemaking Portal: http://www.regulations.gov. Follow the on-line instructions for submitting comments for docket number MSHA-2023-0033.

• Mail/Hand Delivery: DOL-MSHA, Office of Standards, Regulations, and Variances, 201 12th Street South, Suite 4E401, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

Section 103(h) of the Federal Mine Safety and Health Act of 1977 (Mine Act), Public Law 95-164 as amended, 30 U.S.C. 813(h), authorizes Mine Safety and Health Administration (MSHA) to collect information necessary to carry out its duty in protecting the safety and health of miners. Further, section 101(a) of the Mine Act, 30 U.S.C. 811(a), authorizes the Secretary of Labor (Secretary) to develop, promulgate, and revise as may be appropriate, improved mandatory health or safety standards for the protection of life and prevention of injuries in coal and metal and nonmetal mines.

Part 75 of title 30 of Code of Federal Regulation includes requirements of sealing abandoned areas in underground coal mines such as the design and construction of new seals and the examination, maintenance, and repair of all seals.

30 CFR 75.335—Seal Strengths, Design Applications, and Installation

30 CFR 75.335(b) sets forth procedures for the approval of seal design applications that are submitted by seal manufacturers or mine operators to MSHA's Office of Technical Support, Pittsburgh Safety and Health Technology Center.

30 CFR 75.355(b)(1)(ii) requires that the seal design applications to be submitted for MSHA approval must be certified by a professional engineer to ensure that the design of the seal is in accordance with current, prudent engineering practices and is applicable to conditions in an underground coal mine.

30 CFR 75.335(c) requires the submission and certification of information for seal installation. The mine operator must:

(1) Retain the seal design approval and installation information for as long as the seal is needed to serve the purpose for which it was built.

(2) Designate a professional engineer to conduct or have oversight of seal installation and certify that the provisions in the approved seal design specified in this section have been addressed and are applicable to conditions at the mine. A copy of the certification must be submitted to the District Manager with the information listed in (3) and a copy of the certification must be retained for as long as the seal is needed to serve the purpose for which it was built.

(3) Provide the following information for approval in the ventilation plan—

i. The MSHA Technical Support Approval Number;

ii. A summary of the installation procedures;

iii. The mine map of the area to be sealed and proposed seal locations that include the deepest points of penetration prior to sealing. The mine map must be certified by a professional engineer or a professional land surveyor.

iv. Specific mine site information, including—

A. Type of seal;

B. Safety precautions taken prior to seal achieving design strength;

C. Methods to address site-specific conditions that may affect the strength and applicability of the seal including set-back distances;

D. Site preparation;

E. Sequence of seal installations;

F. Projected date of completion of each set of seals;

G. Supplemental roof support inby and outby each seal;

H. Water flow estimation and dimensions of the water drainage system through the seals;

I. Methods to ventilate the outby face of seals once completed;

J. Methods and materials used to maintain each type of seal;

K. Methods to address shafts and boreholes in the sealed area;

L. Assessment of potential for overpressures greater than 120 psi in sealed area;

M. Additional sampling locations; and

N. Additional information required by the District Manager.

30 CFR 75.336—Sampling and Monitoring Requirements

30 CFR 75.336(a)(2) requires the mine operator to evaluate the atmosphere in the sealed area to determine whether sampling through the sampling pipes in seals provides appropriate sampling locations of the sealed area. The mine operator will make an evaluation for each area that has seals. When the results of the evaluations indicate the need for additional sampling locations, the mine operator must provide the additional locations and have them approved in the ventilation plan.

30 CFR 75.336(c) requires that when a sample is taken from the sealed atmosphere with seals of less than 120 psi and the sample indicates that (1) the oxygen concentration is 10 percent or greater and (2) methane is between 4.5 percent and 17 percent, the mine operator must immediately take an additional sample and then immediately notify the District Manager. When the additional sample indicates that the oxygen concentration is 10 percent or greater and methane is between 4.5 percent and 17 percent, persons must be withdrawn from the affected area identified by the operator and approved by the District Manager in the ventilation plan.

30 CFR 75.336(c) also requires that before miners reenter the mine, the mine operator must have a ventilation plan revision approved by the District Manager specifying the actions to be taken.

30 CFR 75.336(e) requires a certified person to record each sampling result, including the location of the sampling points and the oxygen and methane concentrations. Also, any hazardous conditions found must be corrected and recorded in accordance with existing 30 CFR 75.363. The mine operator must retain sampling records at the mine for at least one year from the date of the sampling.

30 CFR 75.337—Construction and Repair of Seals

30 CFR 75.337(c)(1)-(c)(5) requires a certified person to perform several tasks during seal construction and repair and to certify that the tasks were done in accordance with the approved ventilation plan at the completion of their shift. In addition, a mine foreman or equivalent mine official must countersign the record by the end of their next regularly scheduled working shift. The record must be kept at the mine for one year.

30 CFR 75.337(d) requires a senior mine management official, such as a mine manager or superintendent, to certify that the construction, installation, and materials used were in accordance with the approved ventilation plan. The mine operator must retain the certification for as long as the seal is needed to serve the purpose for which it was built.

30 CFR 75.337(e) requires the mine operator to notify MSHA of certain activities concerning the construction of seals.

30 CFR 75.337(e)(1) requires the mine operator to notify the District Manager between 2 and 14 days prior to commencement of seal construction.

30 CFR 75.337(e)(2) requires the mine operator to notify the District Manager, in writing, within 5 days of completion of a set of seals and provide a copy of the certifications required in 30 CFR 75.337(d).

30 CFR 75.337(e)(3) requires the mine operator to submit a copy of the quality control test results for seal material properties specified by 30 CFR 75.335 within 30 days of completion of such tests.

30 CFR 75.337(f) requires the mine operator to request the District Manager to approve a different location in the ventilation plan to permit welding, cutting, and soldering within 150 ft. of a seal.

30 CFR 75.337(g)(3) requires the mine operator to label sampling pipes to indicate the location of the sampling point when the mine operator installs more than one sampling pipe through a seal.

30 CFR 75.338—Training

30 CFR 75.338(a) requires mine operators to certify that persons conducting sampling were trained in the use of appropriate sampling equipment, techniques, the location of sampling points, the frequency of sampling, the size and condition of sealed areas, and the use of continuous monitoring systems, if applicable, before they conduct sampling, and annually thereafter. The mine operator must certify the date of training provided to certified persons and retain each certification for two years.

30 CFR 75.338(b) requires mine operators to certify that miners constructing or repairing seals, designated certified persons, and senior mine management officials were trained prior to constructing or repairing a seal and annually thereafter. The mine operator must certify the date of training provided each miner, certified person, and senior mine management official and retain each certification for two years.

II. Desired Focus of Comments

MSHA is soliciting comments concerning the proposed information collection related to Sealing of Abandoned Areas. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at DOL-MSHA, 201 12th South, Suite 4E401, Arlington, VA 22202-5452. Sign in at the receptionist's desk on the 4th floor via the East elevator. Before visiting MSHA in person, call 202-693-9455 to make an appointment, in keeping with the Department of Labor's COVID-19 policy. Special health precautions may be required.

Questions about the information collection requirements may be directed to the person listed in the FOR FURTHER INFORMATION CONTACT section of this notice.

III. Current Actions

This information collection request concerns provisions for Sealing of Abandoned Areas. MSHA has updated the data with respect to the number of respondents, responses, burden hours, and burden costs supporting this information collection request from the previous information collection request.

Type of Review: Extension, without change, of a currently approved collection.

Agency: Mine Safety and Health Administration.

OMB Number: 1219-0142.

Affected Public: Business or other for-profit.

Number of Annual Respondents: 166.

Frequency: On occasion.

Number of Annual Responses: 44,626.

Annual Burden Hours: 4,570 hours.

Annual Respondent or Recordkeeper Cost: $799,282.

Comments submitted in response to this notice will be summarized and included in the request for Office of Management and Budget approval of the proposed information collection request; they will become a matter of public record and will be available at https://www.reginfo.gov.

Song-Ae Aromie Noe,
Certifying Officer, Mine Safety and Health Administration.

[FR Doc. 2023-16668 Filed 8-3-23; 8:45 am]

BILLING CODE 4520-43-P